OFFICE OF PERSONNEL MANAGEMENT

5 CFR Part 532

RIN 3206-AN38

Prevailing Rate Systems; Redefinition of Certain Appropriated Fund Federal Wage System Wage Areas

AGENCY: U.S. Office of Personnel Management.

ACTION: Final rule.

SUMMARY: The U.S. Office of Personnel Management (OPM) is issuing a final rule to redefine the geographic boundaries of several appropriated fund Federal Wage System (FWS) wage areas for pay-setting purposes. Based on reviews of Metropolitan Statistical Area (MSA) boundaries in a number of wage areas, OPM is redefining the following wage areas: Salinas-Monterey, CA; San Francisco, CA; New London, CT; Central and Western Massachusetts; Cincinnati, OH: Dayton, OH, Southeastern Washington-Eastern Oregon; and Spokane, WA.

DATES: Effective date: This regulation is effective on December 1, 2016.

Applicability date: This change applies on the first day of the first applicable pay period beginning on or after January 3, 2017.

FOR FURTHER INFORMATION CONTACT: Madeline Gonzalez, by telephone at (202) 606-2858 or by email at pay-leave-policy@opm.gov.

SUPPLEMENTARY INFORMATION: On June 24, 2016, OPM issued a proposed rule (81 FR 41255) to redefine the following counties:

• San Benito County, CA, from the Salinas-Monterey, CA, area of application to the San Francisco, CA, area of application;

• Windham County, CT, from the New London, CT, area of application to the Central and Western Massachusetts area of application;

• Union County, IN; from the Dayton, OH, area of application to the Cincinnati, OH, area of application;

• Columbia County, WA, from the Spokane area of application to the Southeastern Washington-Eastern Oregon area of application.

The Federal Prevailing Rate Advisory Committee, the national labor-management committee responsible for advising OPM on matters concerning the pay of FWS employees, reviewed and recommended these changes by consensus.

The 30-day comment period ended on July 25, 2016. OPM received one comment in support of the proposal and one comment requesting OPM consider moving another county in the State of California, Mendocino County, CA, from the Rest of U.S. (RUS) General Schedule (GS) locality pay area to the San Jose-San Francisco-Oakland, CA GS locality pay area. GS and FWS pay areas are administered under different regulations. The comment is therefore beyond the scope of the proposed rule.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Beth F. Cobert,
Acting Director.

Accordingly, OPM is amending 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Salinas-Monterey, CA; San Francisco, CA; New London, CT; Central and Western Massachusetts; Cincinnati, OH: Dayton, OH, Southeastern Washington-Eastern Oregon; and Spokane, WA, wage areas to read as follows:

Appendix C to Subpart B of Part 532—Appropriated Fund Wage and Survey Areas

* * * * *
CALIFORNIA
* * * * *
Salinas-Monterey
Survey Area
California:
Monterey
Area of Application. Survey area.
* * * * *
San Francisco
California:
Alameda
Contra Costa
Marin
Napa
San Francisco
San Mateo
Santa Clara
Solano
Area of Application. Survey area plus:
California:
Mendocino
San Benito
Santa Cruz
Sonoma
* * * * *
CONNECTICUT
* * * * *
New London
Survey Area
Connecticut:
New London
Area of Application. Survey area.
* * * * *
MASSACHUSETTS
* * * * *
Central and Western Massachusetts
Survey Area
Massachusetts:
The following cities and towns in:
Hampden County
Agawam
Chicopee
East Longmeadow
Feeding Hills
Hampden
Holyoke
Longmeadow
Ludlow
Monson
Palmer
Southwick
Springfield
Three Rivers
Westfield
West Springfield
Wilbraham
Hampshire County
Easthampton
Granby
Hadley
Northampton
South Hadley
Worcester County
Warren
West Warren
Area of Application. Survey area plus:
Connecticut:
Windham
Massachusetts:
Berkshire
Franklin
Worcester (except Blackstone and Millville)
The following cities and towns in:
Hampden County
Blandford
Brimfield
Chester
Granville
Holland
Montgomery
Russell
Tolland
Wales
Hampshire County
Amherst
Belchertown
Chesterfield
Cummington
Goshen
Hatfield
Huntington
Middlefield
Pelham
Plainfield
Southampton
Ware
Westhampton
Williamsburg
Worthington
Middlesex County
Ashby
Shirley
Townsend
New Hampshire:
Belknap
Carroll
Cheshire
Grafton
Hillsborough
Merrimack
Sullivan
Vermont:
Addison
Bennington
Caledonia
Essex
Lamoille
Orange
Orleans
Rutland
Washington
Windham
Windsor
* * * * *
OHIO
Cincinnati
Survey Area
Indiana:
Dearborn
Kentucky:
Boone
Campbell
Kenton
Ohio:
Clermont
Hamilton
Warren
Area of Application. Survey area plus:
Indiana:
Franklin
Ohio
Ripley
Switzerland
Union
Kentucky:
Bracken
Carroll
Gallatin
Grant
Mason
Pendleton
Ohio:
Adams
Brown
Butler
Highland
* * * * *
Dayton
Ohio:
Champaign
Clark
Greene
Miami
Montgomery
Preble
Area of Application. Survey area plus:
Indiana:
Randolph
Wayne
Ohio:
Auglaize
Clinton
Darke
Logan
Shelby
* * * * *
WASHINGTON
* * * * *
Southeastern Washington-Eastern Oregon
Survey Area
Oregon:
Umatilla
Washington:
Benton
Franklin
Walla Walla
Yakima
Area of Application. Survey area plus:
Oregon:
Baker
Grant
Harney
Malheur
Morrow
Union
Wallowa
Wheeler
Washington:
Columbia
Kittitas (Only includes the Yakima Firing Range portion)
Spokane
Survey Area
Washington:
Spokane
Area of Application. Survey area plus:
Idaho:
Benewah
Bonner
Boundary
Clearwater
Idaho
Kootenai
Latah
Lewis
Nez Perce
Shoshone
Washington:
Adams
Asotin
Chelan (Does not include the North Cascades National Park portion)
Douglas
Ferry
Garfield
Grant
Kittitas (Does not include the Yakima Firing Range portion)
Lincoln
Okanogan
Pend Oreille
Stevens
Whitman

* * * * *

[FR Doc. 2016-28784 Filed 11-30-16; 8:45 am]

BILLING CODE 6325-39-P